ENVIRONMENTAL PROTECTION AGENCY

40 CFR Part 52

[EPA-R09-OAR-2012-0228; FRL-9907-73-Region 9]

Approval and Promulgation of State Implementation Plans; Hawaii; Infrastructure Requirements for the 1997 8-Hour Ozone and the 1997 and 2006 Fine Particulate Matter National Ambient Air Quality Standards

AGENCY: Environmental Protection Agency (EPA).

ACTION: Final rule; clarification.

SUMMARY: The Environmental Protection Agency (EPA) is clarifying its final action on revisions to the Hawaii State Implementation Plan (SIP), published in the Federal Register on August 9, 2012.

DATES: This final rule is effective on March 31, 2014.

ADDRESSES: EPA has established a docket for this action, identified by Docket ID Number EPA-R09-OAR-2012-0228. The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed directly below.

FOR FURTHER INFORMATION CONTACT: Dawn Richmond, Air Planning Office (AIR-2), U.S. Environmental Protection Agency, Region IX, (415) 972-3207, richmond.dawn@epa.gov.

SUPPLEMENTARY INFORMATION: Throughout this document, the terms “we,” “us,” and “our” refer to EPA.

I. EPA's Action

On August 9, 2012 (77 FR 47530), EPA took final action to approve in part and disapprove in part a SIP revision submitted by Hawaii Department of Health (HDOH) on December 14, 2011 to address the infrastructure requirements of CAA section 110(a)(2) for the 1997 national ambient air quality standard (NAAQS) for ozone and the 1997 and 2006 NAAQS for fine particulate matter (PM2.5) (“2011 Hawaii Infrastructure SIP”).

In this document, we are making certain corrections to the entries in the table in paragraph (3) of 40 CFR 52.620, clarifying the contents of the applicable plan as approved on August 9, 2012, and specifying the extent to which EPA disapproved the December 14, 2011 SIP submittal. Specifically, we are:

• Correcting the title of the approved plan and the submittal date (the submittal date was December 14, 2011, not December 14, 2012);

• Clarifying that the plan, as approved on August 9, 2012, does not include the public process documentation included in the December 14, 2011 SIP submittal;

• Clarifying the specific statutory provisions approved on August 9, 2012, and the extent to which the approved existing SIP statutory provisions were thereby superseded, by listing all approved statutory provisions (including a few previously approved and not superseded) separately as nonregulatory provisions in the Hawaii SIP; and

• Specifying the extent of our disapproval for the Hawaii Infrastructure SIP for the various elements under CAA section 110(a)(2).

EPA has determined that today's action falls under the “good cause” exemption in section 553(b)(3)(B) of the Administrative Procedure Act (APA) which, upon finding “good cause,” authorizes agencies to dispense with public participation where public notice and comment procedures are impracticable, unnecessary, or contrary to the public interest. Public notice and comment for this action are unnecessary because today's clarification of EPA's August 9, 2012 final rule approving in part and disapproving in part the 2011 Hawaii Infrastructure SIP has no substantive impact on that approval and the clarification makes no substantive difference to EPA's analysis as set out in that rule. In addition, EPA can identify no particular reason why the public would be interested in being notified of this clarification since the opportunity to comment on the action to approve in part and disapprove in part the 2011 Hawaii Infrastructure SIP was previously provided and no comments were received.

EPA also finds that there is good cause under APA section 553(d)(3) for this clarification to become effective on the date of publication of this action. Section 553(d)(3) of the APA allows an effective date less than 30 days after publication “as otherwise provided by the agency for good cause found and published with the rule.” (5 U.S.C. 553(d)(3)). The purpose of the 30-day waiting period prescribed in APA section 553(d)(3), is to give affected parties a reasonable time to adjust their behavior and prepare before the final rule takes effect. Today's rule, however, does not create any new regulatory requirements such that affected parties would need time to prepare before the rule takes effect. Rather, today's rule simply clarifies the contents of the applicable plan as approved on August 9, 2012, and specifies the extent to which EPA disapproved the December 14, 2011 SIP submittal. For these reasons, EPA finds good cause under APA section 553(d)(3) for this clarification to become effective on the date of publication of this action.

II. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely clarifies the contents of the applicable Hawaii SIP as approved on August 9, 2012, and specifies the extent to which EPA disapproved the 2011 Hawaii Infrastructure SIP in the August 9, 2012 final rule. This clarification has no substantive impact on EPA's August 9, 2012, approval and it imposes no additional requirements beyond those imposed by state law. Accordingly, the Administrator certifies that this action will not have a significant economic impact on a substantial number of small entities under the Regulatory Flexibility Act (5 U.S.C. 601 et seq.). Because this clarification does not impose any additional enforceable duty beyond that required by state law, it does not contain any unfunded mandate or significantly or uniquely affect small governments, as described in the Unfunded Mandates Reform Act of 1995 (Pub. L. 104-4).

This clarification also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the states, on the relationship between the national government and the states, or on the distribution of power and responsibilities among the various levels of government, as specified in Executive Order 13132 (64 FR 43255, August 10, 1999). This action merely clarifies the contents of a state plan implementing a Federal standard, and does not alter the relationship or the distribution of power and responsibilities established in the CAA. This action also is not subject to Executive Order 13045, “Protection of Children From Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This action does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by May 30, 2014. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Oxides of nitrogen, Ozone, Particulate matter, Reporting and recordkeeping requirements, Volatile organic compounds.

Dated: February 28, 2014.
Jared Blumenfeld,
Regional Administrator, Region IX.

Chapter I, title 40 of the Code of Federal Regulations is amended as follows:

PART 52—[AMENDED]

1. The authority citation for part 52 continues to read as follows:

Authority: 42 U.S.C. 7401 et seq.

Subpart M—Hawaii

2. In § 52.620, the table in paragraph (e) is amended by:

a. Removing the entry for “Section III—Legal Authority”;

b. Revising the table section entitled “State of Hawaii Air Pollution Control Implementation Plan for Lead”;

c. Adding a table section entitled “Hawaii Revised Statutes, Division 1 (Government), Title 7 (Public officers and employees), Chapter 84 (Standards of Conduct)” at the end of the table;

d. Adding a table section entitled “Hawaii Revised Statutes, Chapter 342, Hawaii Statute on Environmental Quality”; and

e. Adding a table section entitled “Hawaii Revised Statutes, Division 1 (Government), Title 19 (Health), Chapter 342B (Air Pollution Control)”.

The revisions and additions read as follows:

§ 52.620 Identification of plan.

* * * * *

(e) * * *

EPA-Approved Hawaii Nonregulatory Provisions and Quasi-Regulatory Measures
Name of SIP revision or statutory section number | Applicable geographic area or title | State submittal date | EPA approval date | Explanation
* * * * * * *
State of Hawaii Air Pollution Control Implementation Plans for Ozone, PM2.5, and Lead
State of Hawaii Air Pollution Control Implementation Plan for Lead | Statewide | 10/29/82 | 8/18/83, 48 FR 37402 | Excluding section II (“Notice of Public Hearing”); Hawaii Statute on Environmental Quality, Chapter 342, Hawaii Revised Statutes, section 342-7 (see 74 FR 11037 (March 16, 2009); and section IV (“Control Regulations”). The statutory provisions in Section III (“Legal Authority”) superseded statutory provisions approved at 37 FR 10842 (May 31, 1972) and at 38 FR 30876 (November 8, 1973) and were, with few exceptions, superseded by approval of more recent statutory provisions at 77 FR 47530 (August 9, 2012). Statutory provisions that remain in the current applicable SIP are listed separately in the table in paragraph (e).
State Implementation Plan Revision, Clean Air Act Section 110(a)(2), 1997 Ozone National Ambient Air Quality Standard and 1997 and 2006 PM2.5 National Ambient Air Quality Standards | Statewide | 12/14/11 | 8/9/12, 77 FR 47530 | Approval excludes appendix A (“Hawaii Revised Statutes, Chapter 84, Standards of Conduct, Chapter 342B, Air Pollution Control”), appendix B, (“Hawaii Administrative Rules, Title 11, Chapter 60.1, Air Pollution Control”), appendix D (“SIP Public Comment Proceedings”), and appendix E (“Public Proceedings for Hawaii Administrative Rules, Chapter 11-60.1”). Approved statutory provisions included in appendix A are listed separately in the table in paragraph (e). In separate rulemakings, EPA has taken action to approve certain regulations included in appendix B. Approved regulations are listed separately in the table in paragraph (c).
Hawaii Revised Statutes, Division 1 (Government), Title 7 (Public officers and employees), Chapter 84 (Standards of Conduct)
84-1 | Construction | 12/14/11 | 8/9/12, 77 FR 47530 | Laws 1972, Act 163, pt of § 1. Included in appendix A to the Hawaii SIP revision for the 1997 ozone, and 1997 and 2006 PM2.5 national ambient air quality standards.
84-2 | Applicability | 12/14/11 | 8/9/12, 77 FR 47530 | Most recently amended in Laws 1979, Act 91, § 3. Included in appendix A to the Hawaii SIP revision for the 1997 ozone, and 1997 and 2006 PM2.5 national ambient air quality standards.
84-3 | Definitions | 12/14/11 | 8/9/12, 77 FR 47530 | Law as amended through 1984. Included in appendix A to the Hawaii SIP revision for the 1997 ozone, and 1997 and 2006 PM2.5 national ambient air quality standards.
84-11 | Gifts | 12/14/11 | 8/9/12, 77 FR 47530 | Law as amended through 1984. Included in appendix A to the Hawaii SIP revision for the 1997 ozone, and 1997 and 2006 PM2.5 national ambient air quality standards.
84-11.5 | Reporting of gifts | 12/14/11 | 8/9/12, 77 FR 47530 | Laws 1992, Act 322, pt of § 1. Included in appendix A to the Hawaii SIP revision for the 1997 ozone, and 1997 and 2006 PM2.5 national ambient air quality standards.
84-12 | Confidential information | 12/14/11 | 8/9/12, 77 FR 47530 | Law as amended through 1984. Included in appendix A to the Hawaii SIP revision for the 1997 ozone, and 1997 and 2006 PM2.5 national ambient air quality standards.
84-14 | Conflicts of interests | 12/14/11 | 8/9/12, 77 FR 47530 | Most recently amended in Laws 1978, Act 245, § 2. Included in appendix A to the Hawaii SIP revision for the 1997 ozone, and 1997 and 2006 PM2.5 national ambient air quality standards.
84-17 | Requirements of disclosure | 12/14/11 | 8/9/12, 77 FR 47530 | Most recently amended in Laws 2007, Act 9, § 4. Included in appendix A to the Hawaii SIP revision for the 1997 ozone, and 1997 and 2006 PM2.5 national ambient air quality standards.
Hawaii Revised Statutes, Chapter 342, Hawaii Statute on Environmental Quality
342-14 | Technical defect | 10/29/82 | 8/18/83, 48 FR 37402 | Laws 1972, Act 100, pt of § 1. Included in Section III (“Legal Authority”) in the State of Hawaii Air Pollution Control Implementation Plan for Lead.
342-18 | Other powers of department not affected | 10/29/82 | 8/18/83, 48 FR 37402 | Laws 1972, Act 100, pt of § 1. Included in Section III (“Legal Authority”) in the State of Hawaii Air Pollution Control Implementation Plan for Lead.
342-19 | Effect of laws, ordinances, rules, and regulations | 10/29/82 | 8/18/83, 48 FR 37402 | Most recently amended in Laws 1977, Act 115, § 6. Included in Section III (“Legal Authority”) in the State of Hawaii Air Pollution Control Implementation Plan for Lead.
Hawaii Revised Statutes, Division 1 (Government), Title 19 (Health), Chapter 342B (Air Pollution Control)
342B-1 | Definitions | 12/14/11 | 8/9/12, 77 FR 47530 | Most recently amended in Laws 1993, Act 208, §§ 2, 11. Included in appendix A to the Hawaii SIP revision for the 1997 ozone, and 1997 and 2006 PM2.5 national ambient air quality standards.
342B-2 | Administration | 12/14/11 | 8/9/12, 77 FR 47530 | Most recently amended in Laws 1992, Act 240, pt of § 1. Included in appendix A to the Hawaii SIP revision for the 1997 ozone, and 1997 and 2006 PM2.5 national ambient air quality standards.
342B-3 | General functions, duties, and powers of the director | 12/14/11 | 8/9/12, 77 FR 47530 | Most recently amended in Laws 2000, Act 253, § 150. Included in appendix A to the Hawaii SIP revision for the 1997 ozone, and 1997 and 2006 PM2.5 national ambient air quality standards.
342B-7 | Annual reports | 12/14/11 | 8/9/12, 77 FR 47530 | Most recently amended in Laws 1993, Act 208, § 3. Most recently amended in Laws 1993, c 208, § 3. Included in appendix A to the Hawaii SIP revision for the 1997 ozone, and 1997 and 2006 PM2.5 national ambient air quality standards.
342B-11 | Prohibition | 12/14/11 | 8/9/12, 77 FR 47530 | Laws 1992, Act 240, pt of § 1. Included in appendix A to the Hawaii SIP revision for the 1997 ozone, and 1997 and 2006 PM2.5 national ambient air quality standards.
342B-12 | Specific powers of the director | 12/14/11 | 8/9/12, 77 FR 47530 | Most recently amended in Laws 1994, Act 268, § 1. Included in appendix A to the Hawaii SIP revision for the 1997 ozone, and 1997 and 2006 PM2.5 national ambient air quality standards.
342B-13 | Public participation | 12/14/11 | 8/9/12, 77 FR 47530 | Most recently amended in Laws 2000, Act 150, § 2. Included in appendix A to the Hawaii SIP revision for the 1997 ozone, and 1997 and 2006 PM2.5 national ambient air quality standards.
342B-15 | Complaints; hearings; appointment of masters | 12/14/11 | 8/9/12, 77 FR 47530 | Laws 1992, Act 240, pt of § 1. Included in appendix A to the Hawaii SIP revision for the 1997 ozone, and 1997 and 2006 PM2.5 national ambient air quality standards.
342B-16 | Research, educational, and training programs | 12/14/11 | 8/9/12, 77 FR 47530 | Laws 1992, Act 240, pt of § 1. Included in appendix A to the Hawaii SIP revision for the 1997 ozone, and 1997 and 2006 PM2.5 national ambient air quality standards.
342B-17 | Air quality modelers | 12/14/11 | 8/9/12, 77 FR 47530 | Most recently amended in Laws 2000, Act 253, § 150. Included in appendix A to the Hawaii SIP revision for the 1997 ozone, and 1997 and 2006 PM2.5 national ambient air quality standards.
342B-21 | Specific functions, duties, and powers of the director | 12/14/11 | 8/9/12, 77 FR 47530 | Most recently amended in Laws 1994, Act 268, § 2. Included in appendix A to the Hawaii SIP revision for the 1997 ozone, and 1997 and 2006 PM2.5 national ambient air quality standards.
342B-22 | Permit and permit renewal; requirements | 12/14/11 | 8/9/12, 77 FR 47530 | Laws 1992, Act 240, pt of § 1. Included in appendix A to the Hawaii SIP revision for the 1997 ozone, and 1997 and 2006 PM2.5 national ambient air quality standards.
342B-23 | Application for permit | 12/14/11 | 8/9/12, 77 FR 47530 | Laws 1992, Act 240, pt of § 1. Included in appendix A to the Hawaii SIP revision for the 1997 ozone, and 1997 and 2006 PM2.5 national ambient air quality standards.
342B-24 | Action on a permit application | 12/14/11 | 8/9/12, 77 FR 47530 | Most recently amended in Laws 1993, Act 208, § 5. Included in appendix A to the Hawaii SIP revision for the 1997 ozone, and 1997 and 2006 PM2.5 national ambient air quality standards.
342B-25 | Approval of permit | 12/14/11 | 8/9/12, 77 FR 47530 | Laws 1992, Act 240, pt of § 1. Included in appendix A to the Hawaii SIP revision for the 1997 ozone, and 1997 and 2006 PM2.5 national ambient air quality standards.
342B-26 | General and temporary permits; single permit | 12/14/11 | 8/9/12, 77 FR 47530 | Most recently amended in Laws 1993, Act 208, § 6. Included in appendix A to the Hawaii SIP revision for the 1997 ozone, and 1997 and 2006 PM2.5 national ambient air quality standards.
342B-27 | Other permit action | 12/14/11 | 8/9/12, 77 FR 47530 | Laws 1992, Act 240, pt of § 1. Included in appendix A to the Hawaii SIP revision for the 1997 ozone, and 1997 and 2006 PM2.5 national ambient air quality standards.
342B-28 | Recordkeeping and monitoring requirements | 12/14/11 | 8/9/12, 77 FR 47530 | Laws 1992, Act 240, pt of § 1. Included in appendix A to the Hawaii SIP revision for the 1997 ozone, and 1997 and 2006 PM2.5 national ambient air quality standards.
342B-29 | Fees | 12/14/11 | 8/9/12, 77 FR 47530 | Most recently amended in Laws 2009, Act 42, § 2. Included in appendix A to the Hawaii SIP revision for the 1997 ozone, and 1997 and 2006 PM2.5 national ambient air quality standards.
342B-30 | Judicial review | 12/14/11 | 8/9/12, 77 FR 47530 | Laws 1992, Act 240, pt of § 1. Included in appendix A to the Hawaii SIP revision for the 1997 ozone, and 1997 and 2006 PM2.5 national ambient air quality standards.
342B-31 | Government records; confidential information | 12/14/11 | 8/9/12, 77 FR 47530 | Laws 1992, Act 240, pt of § 1. Included in appendix A to the Hawaii SIP revision for the 1997 ozone, and 1997 and 2006 PM2.5 national ambient air quality standards.
342B-32 | Clean air special fund | 12/14/11 | 8/9/12, 77 FR 47530 | Laws 1992, Act 240, pt of § 1. Included in appendix A to the Hawaii SIP revision for the 1997 ozone, and 1997 and 2006 PM2.5 national ambient air quality standards.
342B-33 | Minimum permit conditions | 12/14/11 | 8/9/12, 77 FR 47530 | Most recently amended in Laws 1994, Act 268, § 3. Included in appendix A to the Hawaii SIP revision for the 1997 ozone, and 1997 and 2006 PM2.5 national ambient air quality standards.
342B-34 | Exceptions | 12/14/11 | 8/9/12, 77 FR 47530 | Laws 1992, Act 240, pt of § 1. Included in appendix A to the Hawaii SIP revision for the 1997 ozone, and 1997 and 2006 PM2.5 national ambient air quality standards.
342B-41 | Inspection of premises | 12/14/11 | 8/9/12, 77 FR 47530 | Laws 1992, Act 240, pt of § 1. Included in appendix A to the Hawaii SIP revision for the 1997 ozone, and 1997 and 2006 PM2.5 national ambient air quality standards.
342B-42 | Enforcement | 12/14/11 | 8/9/12, 77 FR 47530 | Most recently amended in Laws 1995, Act 180, § 2. Included in appendix A to the Hawaii SIP revision for the 1997 ozone, and 1997 and 2006 PM2.5 national ambient air quality standards.
342B-43 | Emergency powers; procedures | 12/14/11 | 8/9/12, 77 FR 47530 | Most recently amended in Laws 1995, Act 201, § 1. Included in appendix A to the Hawaii SIP revision for the 1997 ozone, and 1997 and 2006 PM2.5 national ambient air quality standards.
342B-44 | Injunctive and other relief | 12/14/11 | 8/9/12, 77 FR 47530 | Most recently amended in Laws 1995, Act 180, § 3. Included in appendix A to the Hawaii SIP revision for the 1997 ozone, and 1997 and 2006 PM2.5 national ambient air quality standards.
342B-45 | Citation | 12/14/11 | 8/9/12, 77 FR 47530 | Most recently amended in Laws 1997, Act 27, § 1. Included in appendix A to the Hawaii SIP revision for the 1997 ozone, and 1997 and 2006 PM2.5 national ambient air quality standards.
342B-46 | Appeal | 12/14/11 | 8/9/12, 77 FR 47530 | Laws 1992, Act 240, pt of § 1. Included in appendix A to the Hawaii SIP revision for the 1997 ozone, and 1997 and 2006 PM2.5 national ambient air quality standards.
342B-47 | Civil penalties | 12/14/11 | 8/9/12, 77 FR 47530 | Most recently amended in Laws 1993, Act 208, § 8. Included in appendix A to the Hawaii SIP revision for the 1997 ozone, and 1997 and 2006 PM2.5 national ambient air quality standards.
342B-48 | Administrative penalties | 12/14/11 | 8/9/12, 77 FR 47530 | Most recently amended in Laws 1994, Act 268, § 4. Included in appendix A to the Hawaii SIP revision for the 1997 ozone, and 1997 and 2006 PM2.5 national ambient air quality standards.
342B-49 | Criminal penalties | 12/14/11 | 8/9/12, 77 FR 47530 | Most recently amended in Laws 1993, Act 208, § 9. Included in appendix A to the Hawaii SIP revision for the 1997 ozone, and 1997 and 2006 PM2.5 national ambient air quality standards.
342B-50 | Disposition of collected fines and penalties | 12/14/11 | 8/9/12, 77 FR 47530 | Laws 1992, Act 240, pt of § 1. Included in appendix A to the Hawaii SIP revision for the 1997 ozone, and 1997 and 2006 PM2.5 national ambient air quality standards.
342B-51 | Enforcement by state and county authorities | 12/14/11 | 8/9/12, 77 FR 47530 | Laws 1992, Act 240, pt of § 1. Included in appendix A to the Hawaii SIP revision for the 1997 ozone, and 1997 and 2006 PM2.5 national ambient air quality standards.
342B-52 | Nonliability of department personnel | 12/14/11 | 8/9/12, 77 FR 47530 | Laws 1992, Act 240, pt of § 1. Included in appendix A to the Hawaii SIP revision for the 1997 ozone, and 1997 and 2006 PM2.5 national ambient air quality standards.
342B-53 | Other action not barred | 12/14/11 | 8/9/12, 77 FR 47530 | Laws 1992, Act 240, pt of § 1. Included in appendix A to the Hawaii SIP revision for the 1997 ozone, and 1997 and 2006 PM2.5 national ambient air quality standards.
342B-54 | Priority in courts | 12/14/11 | 8/9/12, 77 FR 47530 | Laws 1992, Act 240, pt of § 1. Included in appendix A to the Hawaii SIP revision for the 1997 ozone, and 1997 and 2006 PM2.5 national ambient air quality standards.
342B-55 | Consent orders; settlement agreements | 12/14/11 | 8/9/12, 77 FR 47530 | Most recently amended in Laws 1993, Act 208, § 10. Included in appendix A to the Hawaii SIP revision for the 1997 ozone, and 1997 and 2006 PM2.5 national ambient air quality standards.

3. Section 52.623 is revised to read as follows:

§ 52.623 Approval status.

(a) With the exceptions set forth in this subpart, the Administrator approves Hawaii's plan for attainment and maintenance of the national standards. The State included various provisions in its plan to provide for the attainment of the State ambient air quality standards. As described in the Governor's letters of January 28, May 8, and May 22, 1972, these provisions were included for information purposes only and were not to be considered a part of the plan to implement national standards. Accordingly, these additional provisions are not considered a part of the applicable plan.

(b) 1997 8-hour ozone NAAQS: The SIP submitted on December 14, 2011 is partially disapproved for Clean Air Act (CAA) elements 110(a)(2)(C) and (J), and is disapproved for CAA elements 110(a)(2)(D)(i)(II) and (D)(ii).

(c) 1997 PM2.5 NAAQS: The SIP submitted on December 14, 2011 is partially disapproved for Clean Air Act (CAA) elements 110(a)(2)(C) and (J), and is disapproved for CAA elements 110(a)(2)(D)(i)(II) and (D)(ii).

(d) 2006 PM2.5 NAAQS: The SIP submitted on December 14, 2011 is partially disapproved for Clean Air Act (CAA) elements 110(a)(2)(C) and (J), and is disapproved for CAA elements 110(a)(2)(D)(i)(II) and (D)(ii).

[FR Doc. 2014-05526 Filed 3-28-14; 8:45 am]

BILLING CODE 6560-50-P